DEPARTMENT OF HOMELAND SECURITY

U.S. Customs and Border Protection

19 CFR Part 12

[CBP Dec. 25-05]

RIN 1685-AA32

Emergency Import Restrictions on Categories of Archaeological and Ethnological Material of Lebanon

AGENCY: U.S. Customs and Border Protection, Department of Homeland Security.

ACTION: Final rule.

SUMMARY: This document amends the U.S. Customs and Border Protection (CBP) regulations to reflect the imposition of emergency import restrictions on categories of archaeological and ethnological material of Lebanon, pursuant to a determination made by the United States Department of State under the terms of the Convention on Cultural Property Implementation Act. The emergency import restrictions will be in effect until January 23, 2029, unless extended. This document contains the Designated List of Archaeological and Ethnological Material of Lebanon that describes the types of objects or categories of archaeological and ethnological material to which the import restrictions apply.

DATES: Effective on May 13, 2025.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act (Pub. L. 97-446, 19 U.S.C. 2601 et seq.) (CPIA), which implements the 1970 United Nations Educational, Scientific and Cultural Organization (UNESCO) Convention on the Means of Prohibiting and Preventing the Illicit Import, Export and Transfer of Ownership of Cultural Property (823 U.N.T.S. 231 (1972)) (Convention), allows for the conclusion of an agreement between the United States and another party to the Convention to impose import restrictions on eligible archaeological and ethnological material. In certain limited circumstances, the CPIA authorizes the imposition of restrictions on an emergency basis (19 U.S.C. 2603). The emergency restrictions are effective for no more than five years from the date of the State Party's request and may be extended for three years where it is determined that the emergency condition continues to apply with respect to the covered material (19 U.S.C. 2603(c)(3)). These restrictions may also be continued, in whole or in part, pursuant to an agreement concluded within the meaning of the CPIA (19 U.S.C. 2603(c)(4)).

Determinations

Pursuant to 19 U.S.C. 2602(a), the government of the Lebanese Republic (Lebanon), a State Party to the Convention, requested on January 23, 2024, that import restrictions be imposed on certain archaeological and ethnological material, the pillage of which jeopardizes the cultural heritage of Lebanon. The CPIA authorizes the President (or designee) to apply import restrictions on an emergency basis if the President determines that an emergency condition applies with respect to any archaeological or ethnological material of any requesting State Party (19 U.S.C. 2603).

On November 4, 2024, the Principal Deputy Assistant Secretary for Educational and Cultural Affairs, United States Department of State, after consultation with and recommendation by the Cultural Property Advisory Committee, made the determinations necessary under the CPIA for the emergency imposition of import restrictions on categories of archaeological material and ethnological material of the cultural heritage of Lebanon. The Designated List below sets forth the categories of material to which the import restrictions apply. Thus, U.S. Customs and Border Protection (CBP) is amending § 12.104g(b) of title 19 of the Code of Federal Regulations (19 CFR 12.104g(b)) accordingly.

Importation of covered material from Lebanon will be restricted until January 23, 2029, unless the conditions set forth in 19 U.S.C. 2606 and 19 CFR 12.104c are met.

Designated List of Archaeological and Ethnological Material of Lebanon

The Designated List includes, but is not limited to, categories of objects described below.

Archaeological material in the Designated List ranges in date from the Paleolithic period (approximately 700,000 years ago) through 1774 C.E. Ethnological material in the Designated List includes: architectural elements; religious, ritual, and funerary objects; traditional garments and headdresses; weapons and armor; and manuscripts and handwritten documents, all dating from 1600 through 1918 C.E.; as well as early printed books dating from 1600 through 1850 C.E.

The designated list set forth is representative only. Any dates and dimensions are approximate.

Categories of Archaeological and Ethnological Material

I. Archaeological Material

A. Stone

B. Metal

C. Ceramic, Terracotta, Unfired Clay, and Faience

D. Bone, Ivory, Shell, and Other Organic Material

E. Wood

F. Glass

G. Plaster and Stucco

H. Textile

I. Leather, Parchment, Papyrus, and Paper

J. Human and Hominin Remains

II. Ethnological Material

A. Architectural Elements

B. Religious, Ritual, and Funerary Objects

C. Traditional Garments and Headdresses

D. Weapons and Armor

E. Manuscripts, Handwritten Documents, and Early Printed Books

Approximate simplified chronology:

Paleolithic Period: c. 700,000-12,000 years ago

Neolithic Period: c. 10,000-5300 B.C.E.

Chalcolithic Period: c. 5300-3600 B.C.E.

Bronze Age: c. 3600-1200 B.C.E.

Early Bronze Age: c. 3600-2000 B.C.E.

Middle Bronze Age: c. 2000-1600 B.C.E.

Late Bronze Age: c. 1600-1200 B.C.E.

Iron Age (Phoenician kingdoms; Neo-Assyrian, Neo-Babylonian, and Achaemenid Persian Empires): c. 1200-332 B.C.E.

Hellenistic Period (Ptolemaic and Seleucid Empires): 332 B.C.E.-64 B.C.E.

Roman Period: 64 B.C.E.-395 C.E.

Byzantine Period: 395-635 C.E.

Early Medieval Period (Rashidun, Umayyad, Abbasid, and Fatimid Caliphates; Crusader Kingdom of Jerusalem and County of Tripoli; Ayyubid Sultanate): 635-1250 C.E.

Late Medieval Period (Mamluk Sultanate): 1250-1516 C.E.

Ottoman Period (Emirate of Mount Lebanon): 1516-1918 C.E.

I. Archaeological Material

Archaeological material covered by the import restrictions includes material from Lebanon ranging in date from approximately 700,000 years ago to 1774 C.E. Archaeological material covered by the import restrictions includes, but is not limited to, the following categories and types.

A. Stone

1. Architectural Elements—In basalt, limestone, marble, sandstone, granite, and other stones. This category includes, but is not limited to: blocks from walls, floors, and ceilings; acroteria, antefixes, architraves, arches, columns, capitals, bases, lintels, jambs, friezes, merlons, metopes, pediments, pilasters, podia, stairs, tribunes, and tympana; doors, door frames, oculi, and window fittings; oil and wine presses; and caryatids, altars, prayer niches (mihrab), screens, wellheads, and fountains. Includes sculptures and inscriptions in various scripts and languages—such as Egyptian hieroglyphs, pseudo-hieroglyphs or the Byblos script, cuneiform, Phoenician, Greek, Latin, and Arabic—that may have been part of a building or feature. Styles may show Egyptian, Greek, Roman, or other regional influence in different periods. Approximate date: 1500 B.C.E. to 1774 C.E.

2. Non-Architectural Monuments—In basalt, limestone, marble, sandstone, granite, and other stones. Types include, but are not limited to: standing stones, stelae, betyls, cippi, herms, naiskoi (miniature shrines), obelisks, and thrones. Includes bases. May be of a mortuary, votive, commemorative, or other character. May be plain or show incised, relief-carved, or painted images or inscriptions in various scripts in languages, such as Egyptian hieroglyphs, pseudo-hieroglyphs or the Byblos script, cuneiform, Phoenician, Greek, Latin, and Arabic. In different periods, figures, motifs, and symbols may show influence from Egypt, Greece, Rome, Byzantium, and other regions. Heights range from 20 cm to 3 m. Approximate date: 2000 B.C.E. to 1774 C.E.

3. Rock Art and Inscriptions—This category consists of human-made markings carved or painted on rock surfaces. Types include, but are not limited to: petroglyphs (carved into the rock surface), pictographs (painted); rock inscriptions; and commemorative stelae and monuments with relief or incised figures and/or inscriptions carved into rock surfaces, sometimes in a frame imitating architectural forms. Inscriptions may be in various scripts and languages, such as Egyptian hieroglyphs, pseudo-hieroglyphs or the Byblos script, cuneiform, Latin, Greek, or Arabic. Approximate date: 1300 B.C.E. to the 1774 C.E.

4. Mosaics—This category consists of compositions of small pieces of colored stone (tesserae) set into floors, walls, and ceilings to create patterns such as geometric motifs and bands; mythological, religious, or other scenes and figures; floral, vegetal, or animal motifs; and inscriptions in various scripts and languages, especially Greek. Mosaics may also be made in the opus sectile technique of composing patterns and designs through the inlay of flat pieces of stone (especially marble) cut into shapes. Includes tesserae and mosaic tiles disassociated from their original composition and stone inlays used or intended for use in compositions of other materials. Approximate date: 800 B.C.E. to 1774 C.E.

5. Burial Containers—Types include, but are not limited to: sarcophagi, coffins, ossuaries, caskets, reliquaries, and urns in marble, limestone, basalt, sandstone, or other stones. Includes cenotaphs (empty burial containers). Made in forms such as simple boxes, architectural forms with gabled lids, and anthropomorphic shapes with relief-carved faces and other features. May be plain or decorated with relief sculptures of human and animal figures, mythological scenes, monograms, floral and geometric motifs, or architectural ornaments. In different periods, sculpted features may show Egyptian, Cypriot, Greek, or Roman influence. May be inscribed in various scripts and languages, such as Egyptian hieroglyphs, pseudo-hieroglyphs or the Byblos script, cuneiform, Phoenician, Greek, Latin, or Arabic. May be painted or preserve traces of paint. Approximate date: 3100 B.C.E. to 1774 C.E.

6. Sculpture—This category consists of representations of humans, deities, animals, mythological figures (such as sphinxes), groups of such figures, or parts of figures carved in the round in limestone, marble, basalt, sandstone, steatite, and other stones. Types include, but are not limited to: statues, busts, idols, statuettes, and figurines. Includes bases and plinths. Styles may be schematic or stylized, as in the case of “pebble idols” or “violin-shaped” figurines, or may be more naturalistic. In different periods, styles and attributes may show Egyptian, Cypriot, Greek, Roman, or other regional influence. May be inscribed in various scripts and languages, such as Egyptian hieroglyphs, pseudo-hieroglyphs or the Byblos script, cuneiform, Phoenician, Greek, Latin, and Arabic. May be painted or show traces of paint or gilding. Large-scale statues and busts may be life-sized or over life-sized, with heights ranging from 1 to 3 m. Statuettes, figurines, and idols are smaller than life-sized, with heights ranging from 5 cm to 1 m. Approximate date: 8800 B.C.E. to 1774 C.E.

7. Furniture and Furniture Fittings—In limestone, basalt, marble, sandstone, and other stones. Types include, but are not limited to: tables, thrones, beds, and fittings for furniture, such as finials and feet. A distinctive type is thrones typically carved from marble or limestone and flanked by winged sphinxes or braziers, sometimes with a standing stone or betyl on the seat. Approximate date: 600 B.C.E. to 1774 C.E.

8. Vessels—This category consists of containers carved in alabaster, calcite, marble, steatite, rock crystal, basalt, limestone, diorite, obsidian, serpentine, travertine, and other stones. Forms include, but are not limited to: alabastra, amphorae, bottles, bowls, boxes, censers, cups, goblets, flasks, incense burners, jars, jugs, lamps, libation spoons, pyxides, and urns, or may take the shape of a human or animal, or part of a human or animal. Includes vessel lids. May be carved in high or low relief, engraved, or incised with geometric, vegetal, or floral motifs, figures, or scenes. May be inscribed in various scripts and languages, such as Egyptian hieroglyphs, pseudo-hieroglyphs or the Byblos script, cuneiform, Phoenician, Greek, Latin, or Arabic. May be imported from Egypt or other regions. May be embellished with precious metals. Approximate date: 8200 B.C.E. to 1774 C.E.

9. Tools, Implements, and Weapons—In flint or chert, obsidian, limestone, basalt, and other stones. Types of chipped stone tools include, but are not limited to: adzes, awls, arrowheads, axes, bifaces, blades and bladelets, borers, burins, chisels, choppers, cores, daggers, flakes, hooks, javelins, knives, microliths, pebble tools, picks, points, scrapers, sickles, and triangles. Paleolithic chipped stone tools belong to the broader Acheulian, Levallois, Mousterian, and Aurignacian industries; more specific regional styles include, but are not limited to: Yabroudian, Emiran/Emireh, Ahmarian, Antelian, Kebaran, and Natufian. Neolithic styles include, but are not limited to: El Khiam points, Amuq points, Byblos points, Heavy Neolithic, Shepherd Neolithic or Gigantolithic, and Qaraounian. Chalcolithic and Early Bronze Age types include, but are not limited to, Canaanean blades. Ground stone types include, but are not limited to: anchors, axes, adzes, grinders, mortars, pestles, rubbers, millstones, whetstones, hammers, palettes, molds, mace heads, sling stones, potter's wheels, loom weights, weights, and spindle whorls. Approximate date: 700,000 years ago to 1774 C.E.

10. Seals—This category consists of small devices, at least one side of which is engraved with a design for stamping or rolling, made of agate, amethyst, carnelian, chalcedony, hematite, jasper, limestone, onyx, quartz, rock crystal, steatite, or other stones. Types include, but are not limited to: stamp seals, cylinder seals, scarabs, scaraboids, signets, intaglios, and gems. May be pierced for suspension or set into a ring. May show designs such as geometric motifs and patterns; human figures such as kings, queens, and heroes; Canaanite, Egyptian, Phoenician, Mesopotamian, Greek, Roman, or other deities; Christian religious figures; animals; mythological creatures; plants such as the papyrus or sacred tree; and symbols such as the ankh, winged sun disk, or cross. Motifs and figures may be individual or combined into scenes such as veneration, combat, or procession. May be imported or locally made. May be inscribed in various scripts and languages such as Egyptian hieroglyphs, pseudo-hieroglyphs or the Byblos script, cuneiform, Phoenician, Greek, Latin, Syriac, or Arabic. May have metal caps or foil coverings. Dimensions range from 1 to 10 cm. Approximate date: 8700 B.C.E. to 1774 C.E.

11. Tablets and Ostraca—This category consists of small-scale plaques and chips of stone used as surfaces for writing or drawing. May be incised, painted, or written in ink. Inscriptions may be in various languages and scripts, such as Egyptian hieroglyphs, pseudo-hieroglyphs or the Byblos script, cuneiform, Phoenician, Greek, Latin, or Arabic scripts. Approximate date: 2500 B.C.E. to 1774 C.E.

12. Jewelry and Ornaments—This category consists of personal ornaments made of or decorated with stones such as agate, amethyst, calcite, carnelian, crystal, hematite, jasper, lapis lazuli, limestone, obsidian, quartz, schist, and steatite. Types include, but are not limited to: amulets, appliques, beads, pendants, cameos, earrings, finger rings, bracelets, anklets, pins, and hair ornaments. May be engraved or cut as gems or cameos. Approximate date: 8700 B.C.E. to 1774 C.E.

B. Metal

1. Sculpture—This category consists of representations of humans, deities, animals, mythological creatures, groups of such figures, body parts of such figures, or miniature objects. May be cast or otherwise formed in the round or as a relief plaque. Types include, but are not limited to: statues, busts, statuettes, figurines, plaques, amulets, and ex-votos. Large-scale statues close to or larger than life-sized are typically made in bronze or other copper alloys, while small-scale statuettes, figurines, plaques, or amulets (height ranging from ca. 5 to 50 cm) may be made in copper, bronze, or other copper alloys; silver; gold; electrum; iron; or lead. Styles may be schematic, stylized, or more naturalistic. May be embellished with attachments or foil in other metals, especially silver and gold, or inlaid with other materials. Some distinctive statuette types of the Bronze and Iron Ages are standing or striding male or female figures, with arms at their sides or raised in a smiting posture, and sometimes carrying weapons, and seated male figures, sometimes with one hand raised; these figures may wear a conical hat, sometimes with horns, or Egyptian style atef-crowns or Hathoric crowns. In different periods, statuettes or figurines may depict Egyptian, Greek, or Roman deities or show Egyptian, Greek, or Roman influence. May be free-standing or inserted into a base. Approximate date: 2000 B.C.E. to 1774 C.E.

2. Reliefs, Appliqués, Sheets, and Plaques—In copper, bronze, or other copper alloys; gold; silver; electrum; iron; and lead. Types include, but are not limited to: plaques, appliqués, roundels, burial masks, mask elements, leaves, and amuletic inscriptions. May be worked in relief (repoussé), impressed, engraved, or cast. May show designs such as geometric, floral, or vegetal motifs and figures or scenes of humans, deities, animals, and mythological creatures. May be inscribed in various scripts and languages such as Egyptian hieroglyphs, pseudo-hieroglyphs or the Byblos script, cuneiform, Phoenician, Greek, Latin, or Arabic. Approximate date: 1600 B.C.E. to 1774 C.E.

3. Vessels—Containers in copper, bronze, or other copper alloys; gold; silver; electrum; iron; and lead. Typical forms include, but are not limited to: ampoules, bowls, boxes, candelabra, cauldrons, censers, chalices, chests, ciboria, cups, ewers, goblets, flasks, jars, jugs, ladles, lamps, monstrances or ostensories, pans, patera, pitchers, plates, polycandela, pyxides, rhyta, strainers, tabernacles, and trays. Includes handles. May be plain, decorated in relief, engraved, enameled, inlaid, or formed into human or animal shapes. May be inscribed in various scripts and languages, such as Egyptian hieroglyphs, pseudo-hieroglyphs or the Byblos script, cuneiform, Phoenician, Greek, Latin, or Arabic. A distinctive Iron Age type is a shallow bowl with relief or engraved decoration, often with a central medallion featuring a rosette, star, or figural scene, and one or more surrounding friezes with geometric or vegetal motifs or complex figural scenes of humans, animals, and deities. Approximate date: 5300 B.C.E. to 1774 C.E.

4. Jewelry and Ornaments—In copper, bronze, and other copper alloys; gold; silver; electrum; iron; and lead. Types include, but are not limited to: amulets, amulet cases, anklets, appliques, bangles, beads, belts, bracelets, buckles, crowns, diadems or headbands, earrings, fibulae (safety pins), medallions, pectorals, pendants, pins, rings, roundels, torques, wreaths. Some typical forms of the Bronze and Iron Ages are sun-discs, lunar crescents, and Egyptian symbols such as ankhs and cartouches. May be decorated with techniques such as casting, champlevé, cloisonné, embossing, engraving, granulation, and repoussé. May be inlaid with other materials such as stone, faience, Egyptian blue (calcium copper silicate), glass, or enamel. Approximate date: 5300 B.C.E. to 1774 C.E.

5. Tools and Implements—Primarily in copper, bronze, and other copper alloys; iron; and lead, though ceremonial examples may be made in precious metals. Types include, but are not limited to: blades, hammers, saws, hooks, axes, chisels, scissors, scrapers (strigils), razors, spatulas, weights, bells, mirrors, chains, forks, spoons, knives, nails, staffs, scales, sickle blades, locks, keys, ingots, coin-shaped tesserae or tokens with molded or cast designs, tweezers, and medical tools. Types such as weights, razors, spatulas, and ingots may be inscribed in various scripts and languages, such as Egyptian hieroglyphs, pseudo-hieroglyphs or the Byblos script, cuneiform, Phoenician, Greek, Latin, or Arabic. Approximate date: 5300 B.C.E. to 1774 C.E.

6. Weapons and Armor—Primarily in copper, bronze, and other copper alloys, as well as iron, though ceremonial examples could be made in gold, silver, or electrum. Weapon types include, but are not limited to: daggers, arrowheads, swords, knives, spearheads, javelin heads, axe heads, swords (including scimitars and sickle swords), sheaths, and maces. Armor types include, but are not limited to: helmets, shields, cuirasses, armor scales, horse armor, and chariot decorations. Ceremonial or votive examples may be inscribed in various scripts and languages, such as Egyptian hieroglyphs, pseudo-hieroglyphs or the Byblos script, cuneiform, Phoenician, Greek, Latin, or Arabic, and may be decorated with incised or relief geometric, floral, or vegetal motifs, or human, divine, or animal figures. Some distinctive Bronze Age types are “fenestrated” or “duckbill” axe heads with two oval openings and leaf-shaped daggers with fine longitudinal ribs. Approximate date: 5300 B.C.E. to 1774 C.E.

7. Seals and Stamps—This category consists of small devices at least one side of which is engraved or cast with a design for stamping or rolling, typically in copper, bronze, or other copper alloys; gold; silver; electrum; or more rarely in iron or lead. Types include, but are not limited to: stamp seals, cylinder seals, scarabs and scaraboids, signet rings, and stamps for pottery or bread. May be pierced for suspension. For designs, see above under Stone Seals. May bear inscriptions in various scripts and languages such as Egyptian hieroglyphs, pseudo-hieroglyphs or the Byblos script, cuneiform, Phoenician, Greek, Latin, Syriac, or Arabic. Dimensions range from 1 to 10 cm. Approximate date: 3600 B.C.E. to 1774 C.E.

8. Furniture and Fittings—This category consists of types of furnishings not mentioned above and fittings used in or applied to furniture or architectural elements. Typically in copper, bronze, or other copper alloys; iron; or lead. Types include, but are not limited to: vessel stands, incense stands (thymiateria), braziers, torch holders, door knockers, other door and window fittings, and sheets and plates covering parts of furniture or architectural elements of other materials. May be decorated with geometric, floral, vegetal, or figurative motifs in relief, in openwork, or in the round. Approximate date: 3100 B.C.E. to 1774 C.E.

9. Musical Instruments—Types include, but are not limited to: various types of horns, flutes, clappers, sistra, cymbals, and metal parts of other instruments otherwise primarily made of wood or bone. May be decorated with designs or figures engraved, embossed, or cast in the round. Approximate date: 3600 B.C.E. to 1774 C.E.

10. Burial Containers—Sarcophagi or coffins typically of lead and in rectangular form, with embossed decoration in the form of geometric and floral bands and images of deities, animals, or mythological creatures. Includes panels and fragments of such burial containers. Approximate date: 100 to 400 C.E.

11. Religious, Ritual, and Ceremonial Objects—In copper, bronze, and other copper alloys; gold; silver; electrum; iron; and lead. This category includes object types not mentioned above that were primarily used for religious, ritual, or ceremonial purpose. Types include, but are not limited to: standards, crosses, crucifixes, icons, croziers, and Torah pointers. Often engraved or otherwise decorated. Approximate date: 100 to 1774 C.E.

12. Coins and Other Currency—Coinage has a great variety and long history in Lebanon that spans the Achaemenid Persian, Hellenistic, Roman, Byzantine, medieval, and early Ottoman periods. This category consists of coins in metals such as gold, silver, billon (an alloy), copper, bronze, brass, and lead that are minted in or found in Lebanon, as well as other forms of currency, such as metal bullion or ingots and cut and weighed silver pieces (hacksilber).

a. Iron Age Persian Period—The earliest coinage of Lebanon dates to the Achaemenid Persian Empire and consists of silver shekels, fractional denominations thereof, and bronze coins minted in Sidon, Tyre, and Byblos. Some typical designs include the king standing or running with a bow, slaying a lion, or processing in a chariot; galley ships; chariots; walled cities; hippocamps; owls with an Egyptian crook and flail; dolphins; sphinxes; griffins; vultures; rams; shells; lotus flowers; Egyptian scepters; warriors; and lions and bulls in combat. May bear Phoenician inscriptions or monograms. Includes Persian imperial and Archaic Greek coins that also circulated in Lebanon during this period. Approximate date: 510 to 332 B.C.E.

b. Hellenistic and Roman Periods—Includes coins in gold, silver, and bronze on Phoenician, Greek, and Roman weight standards. In this period, coins were minted in Sidon, Tyre, Byblos, Beirut (Berytus/Laodicea), Tripoli (Tripolis), Batroun (Botrys), Arqa (Caesarea ad Libanum), Bhannine (Orthosia), Anjar (Chalcis ad Libanum), and Baalbek (Heliopolis) in the name of Macedonian, Ptolemaic, Seleucid, and Roman rulers, or in the name of the cities themselves. The obverse shows designs such as the bust of the ruler, the god Heracles-Melqart, the city-goddess Tyche wearing a “mural” crown (in the form of a walled city), or other figures. The reverse shows designs such as various Hellenic, Roman, or local deities and heroes; temples and symbols of the divine; or symbols like an eagle, palm tree, galley, ship's prow or stern, club of Heracles, cornucopia, or legionary insignia. Inscriptions and monograms may be in Greek, Latin, or Phoenician. Includes Hellenistic and Roman period coins of other regional mints, such as Antioch, that circulated in Lebanon. Approximate date: 332 B.C.E. to 498 C.E.

c. Byzantine Period—Coins in gold, silver, bronze, copper, and electrum from regional mints such as Constantinople, Nikomedia, Alexandria, Carthage, Antioch, Cyzicus, and Thessalonica that circulated in Lebanon. Byzantine coins typically bore Greek inscriptions. Some typical designs include a bust or standing figure of the emperor facing forward on the obverse and Christian symbols and/or the letters M, K, or I on the reverse. Includes coins issued by the Vandal mints of North Africa that circulated in Lebanon in the 6th century C.E. Approximate date: 498 to 635 C.E.

d. Islamic Caliphates—Coins minted during the Umayyad, Abbasid, Fatimid, Ayyubid, Mamluk, and early Ottoman period including at Baalbek, Byblos, Tripoli, and Tyre. Coins were minted in gold, silver, bronze, copper, and lead. The earliest Islamic coins in Lebanon are imitations of Byzantine coin types (“Arab-Byzantine coins”). In the Umayyad period and later, coins typically bore Arabic inscriptions on both sides, and occasionally symbols, animals, or flowers. Includes coins of Islamic dynasties from other regional mints, such as Damascus, Cairo, and Istanbul, that circulated in Lebanon. Approximate date: 635 to 1774 C.E.

e. Crusader Period—Coins in gold, silver, billon (an alloy), bronze, and copper minted at Tyre, Sidon, Beirut, and Tripoli in the Crusader Kingdom of Jerusalem and County of Tripoli. Designs often featured a cross, other Christian symbol, or building in a central medallion surrounded by a Latin inscription. Other Crusader coin designs imitated contemporary Islamic coinage with Arabic or pseudo-Arabic inscriptions. Approximate date: 1095 to 1291 C.E.

C. Ceramic, Terracotta, Unfired Clay, and Faience

1. Architectural Elements—This category consists of fired clay (terracotta) elements used to decorate or protect buildings. Types include, but are not limited to: acroteria; antefixes; wall, floor, and roof tiles; carved and molded bricks; knobs; plaques; plates; and reliefs. May be plain, painted, and/or glazed, and may be sculpted or bear molded designs. Painted and glazed tiles with colorful floral decoration may be imported from Ottoman Türkiye. Approximate date: 2000 B.C.E. to 1774 C.E.

2. Sculpture—This category consists of representations of humans, deities, animals, mythological creatures, groups of such figures, body parts of such figures, vehicles, or buildings, molded or sculpted in the round or in relief in terracotta, unfired clay, or faience (sintered quartz). Types include, but are not limited to: statues, statuettes, and figurines; terracotta plaques; masks and protomes; and models.

a. Statues, Statuettes, and Figurines—Includes large-scale terracotta statues in the round at near life-size (height over 50 cm), especially depicting standing male figures; and terracotta, faience, Egyptian blue, or unfired clay small-scale statuettes or figurines in the round (height ranging from c. 5 to 50 cm). Styles may be schematic, stylized, or more naturalistic. May be formed by hand or fully or partly in a mold. Features may be incised, applied, or painted. In different periods, statues, statuettes, and figurines may depict Egyptian, Canaanite, Phoenician, Mesopotamian, Greek, or Roman deities and figures or show Egyptian, Greek, or Roman influence. Includes molds used in production. Some distinctive types of the Bronze and Iron Ages are nude female figurines with pinched or mold-made faces holding their breasts or with arms outstretched (sometimes called “Astarte” figurines); trumpet-base figurines of male and female worshippers holding animals or children or playing instruments such as cymbals or flutes; male horse riders; pregnant standing or seated female figures; bearded male figures wearing a cylindrical polos crown, conical crown, or Egyptian atef crown with feathers; and seated goddesses with high cylindrical polos crowns. In the Hellenistic and Roman periods, figurines are often moldmade in a naturalistic style and sometimes freestanding; they depict a wide variety of humans and deities, including many from the Greek and Roman world. Approximate date: 8700 B.C.E. to 1774 C.E.

b. Terracotta Plaques—Plaques, typically in terracotta, are usually made in a mold and have a flat back with a relief image on the front. Frontal nude female figures holding their breasts (“Astarte”), with or without an architectural frame, constitute a distinctive type of the Bronze and Iron Ages. Includes molds for the production of plaques. Approximate date: 2000 B.C.E. to 1774 C.E.

c. Masks and Protomes—This category consists of modelled terracotta representations of the face at life-sized or less than life-sized. Masks have apertures for the eyes and sometimes also the mouth. Protomes do not have apertures and may also represent the neck and upper chest. Modelled faces may be male or female in a naturalistic or grotesque style. May be incised and/or painted. Includes molds for the production of masks. Approximate date: 1600 to 200 B.C.E.

d. Models—These are miniature objects in terracotta, including, but not limited to, chariots, boats, furniture such as chairs and beds, and buildings such as temples or shrines. May have wheels. May be painted or embellished with incised, applied, or relief motifs and figures. Approximate date: 1600 B.C.E. to 395 C.E.

3. Vessels—Ceramic types, forms, and decoration vary over time. Conventional forms include, but are not limited to: bowls, cooking pots, cups, jars, jugs, juglets, kraters, lamps, plates, and platters. Some distinctive characteristics of different periods are described below.

a. Neolithic and Chalcolithic Period—Vessels are handmade. In addition to conventional forms in usually simple and globular shapes, some complex shapes include churns, twin jugs or jars, and tripod vessels. Jars may be cut for use as a sarcophagus. Surfaces may be decorated with techniques such as painting, burnishing, stamping, application of relief “ropes” or bands, linear incisions, or combing in patterns such as chevrons and herringbone. May have simple loop or ledge handles. May bear stamp seal impressions. Includes Dark Faced Burnished Ware traditions and Halaf painted style. Some examples show a red or cream-colored wash, or a red, brown, or black slip. Approximate date: 10,000 to 3600 B.C.E.

b. Early Bronze Age—Vessels may be handmade or wheelmade. In addition to conventional forms, some distinctive types are one-handled cups, globular hole-mouth cooking pots, large ovoid jars with flat bases and a pattern-combed surface, smaller jars and jugs with pattern burnishing, one-handled red or black polished jugs, conical cups or goblets with stump bases, and lamps in the form of a shallow bowl with four spouts. Surfaces may be decorated with techniques such as combing and burnishing, sometimes in patterns; red, brown, or black slip; white, red, or black paint in geometric patterns; or applied decoration of a stylized ram's head. May bear stamp or cylinder seal impressions on the handle or shoulder. Approximate date: 3600 to 2000 B.C.E.

c. Middle and Late Bronze Age—Vessels are usually wheelmade. In addition to conventional forms (including miniature votive vessels in these forms), some distinctive types are ovoid or conical two-handled “Canaanite jars”; ovoid jugs with a trefoil or cutaway rim; biconical jugs, sometimes painted with geometric motifs; lentoid “pilgrim” flasks, sometimes painted with concentric circles; juglets with a dipper, piriform, or cylindrical shape, sometimes with a button base or a double handle and sometimes red slipped with vertical burnish; plates with radial burnish; bowls with a carinated body; bowls with concentric painted lines; bowls with a pedestal base; lamps in the form of a shallow bowl with a pinched spout; globular cooking pots with incised lines on the shoulder; flat-based, straight-sided cooking pots; jars and kraters with incised horizontal or wavy lines on the shoulder; and ridged-neck pithoi. Some special-purpose shapes are cylindrical incense burners with rectangular cutouts and kernos ring vessels. Surfaces may be decorated with techniques such as slipping, burnishing, linear incisions or combing lines, and painting. Tell el Yahudiyah ware consists of juglets with a gray or black surface, sometimes slipped and burnished, with incised linear and dot decoration in geometric, animal, or bird motifs. Levantine Painted Ware showing simple painted designs in red and black such as horizontal bands, wavy lines, triangles, lozenges, circles, and spirals in bands is found in shapes such as amphorae, jars, jugs, and juglets. Includes imported pottery such as Egyptian storage jars (zir); Minoan painted pottery such as Kamares ware in shapes such as cups, jugs, and bridge-spouted jars; Mycenaean pottery such as conical rhyta, skyphoi, kylikes, piriform jars, kraters, stirrup jars, and pyxides, often painted in geometric or pictorial motifs, such as charioteers and octopuses; and Middle and Late Cypriot vessels including White Painted II-VI styles such as Pendant Line and Cross Line styles, White Slip I and II, such as “milk bowls,” Base Ring I and II and White Shaved styles, and Red Lustrous Wheelmade ware spindle bottles. Includes local imitations of these imported types. Includes faience vessels, sometimes glazed and/or painted. Approximate date: 2000 to 1600 B.C.E.

d. Iron Age Phoenician Period—Vessels are usually wheelmade. In addition to conventional shapes, some special shapes are kernos ring vessels and animal-shaped askoi. Surfaces may be decorated with techniques such as slipping, burnishing, linear incisions or combing, and painting. Some distinctive types are Red Slip ware; “mushroom-lip” juglets with a ridged neck; trefoil-rim juglets with a globular or biconical body; juglets with bichrome or monochrome painted decoration of concentric circles or horizontal bands; jugs with a strainer spout; “crisp-ware” transport amphorae or “torpedo” jars with a sharply carinated shoulder; “palm tree” jars with a bag-shaped body and monochrome or bichrome painted geometric designs in friezes and panels, sometimes with stylized trees; “pilgrim” flasks; dipper juglets; oil bottles; pithoi with thumb impressions around the collar; painted and unpainted jugs with a loop handle; incense burners with tripod feet; and cremation urns with two handles, sometimes painted with horizontal bands. Vessels may be inscribed in Phoenician. Includes imported pottery such as various productions of the Cypro-Geometric and Cypro-Archaic traditions (such as White Painted, Bichrome, Black-on-Red, and Black Slip styles); and Greek Proto-Geometric (such as Euboean pendant semicircle skyphoi), Geometric, and Attic tablewares (such as Black-Figure and Red-Figure pottery). Includes local imitations of these imported types. Approximate date: 1200 to 332 B.C.E.

e. Hellenistic, Roman, and Byzantine Periods—Vessels are usually wheelmade in fine, semi-fine, and coarse buff, red, and red-brown wares. In addition to conventional forms, some distinctive types are transport amphorae (often carrot-shaped), amphoriskoi, basins, braziers, casseroles, dolia (large storage jars), fishplates, funnels, lagynoi (oil flasks), lekanai (bowls with horizontal handles), mortaria, saucer lids, table amphorae, pilgrim flasks (sometimes with molded decoration on the body), ointment pots, pans, stands, and unguentaria. Lamps typically take the form of closed vessels with a central filling hole and one or more nozzles, often decorated with molded motifs, scenes, or inscriptions in relief. Surfaces may be decorated with techniques such as relief molding, stamping, slipping, and painting. Jar handles may be stamped with various symbols or inscriptions in Phoenician, Greek, or Latin. Includes imported pottery from Cyprus, the Aegean, Asia Minor, North Syria, Italy, Egypt, Gaza, North Africa, and elsewhere, such as black-glazed, black-slipped, and red-slipped tableware, sometimes with stamped, molded, or rouletted decoration; cooking vessels; lamps; and amphorae. Includes local imitations of imported wares and forms. Approximate date: 332 B.C.E. to 635 C.E.

f. Medieval and Early Ottoman Period—Vessels may be handmade or wheelmade. In addition to conventional forms, some distinctive shapes are transport amphorae, baking dishes, cooking pans, lids, and zirs (large storage jars). Some special forms are conical sugar molds, molasses pots, and Ottoman-period tobacco pipes, which are often stamped or molded with relief designs. Some typical lamp types are “slipper” lamps (closed vessels with a central filling hole and nozzle) with stamped geometric and floral motifs or Arabic inscriptions in relief, and cup-shaped lamps with a tube in the center. Surfaces may be decorated with techniques such as reserved slip; slip-painting with Arabic inscriptions, geometric designs, or floral, vegetal, or bird motifs; relief molding with Arabic inscriptions or geometric, floral, or vegetal motifs; and glazing, sometimes with sgraffito (scratched) designs. Glaze may be monochrome or polychrome in colors such as light and dark blue, green, white, yellow, and brown. Cooking and baking vessels are often brown-glazed. Includes imported tableware and amphorae from Egypt, Syria, Greece, Italy, Spain, and other regions, as well as porcelain and celadon imported from China. Approximate date: 635 to 1774 C.E.

4. Jewelry and Ornaments—Types in terracotta, frit, and faience include, but are not limited to, beads and amulets. In the Bronze Age through the Hellenistic Period, amulets are often moldmade in blue-green glazed faience and often take the form of typically Egyptian symbols, deities, or animals. Approximate date: 2000 B.C.E. to 1774 C.E.

5. Tools and Implements—Types in terracotta or unfired clay include, but are not limited to: game pieces, loom weights, spindle whorls, stoppers, and other weights. Approximate date: 15,000 years ago to 1774 C.E.

6. Seals—This category consists of small devices, at least one side of which is engraved with a design for stamping or rolling, in faience, frit, or terracotta. Types include, but are not limited to: stamp seals, cylinder seals, and scarabs. May be pierced for suspension. Typical designs include geometric motifs and patterns, humans, deities, animals, mythological creatures, plants or trees, and symbols. Motifs and figures may be individual or combined into scenes such as veneration, combat, or procession. May be inscribed in various scripts and languages. May be imported or locally made. A distinctive Bronze Age type is faience or frit cylinder seals in the “Mitannian Common Style.” Dimensions range from 1 to 10 cm. Approximate date: 5300 B.C.E. to 395 C.E.

7. Writing, Sealing, and Stamping Materials—Types include, but are not limited to: tablets made of fired or unfired clay, inscribed in cuneiform signs in the Akkadian or other Ancient Near Eastern languages; ostraca consisting of pottery fragments with inscriptions incised or written in ink; bullae consisting of fired or unfired clay pieces bearing seal or signet impressions; and fired clay tesserae with a stamped impression. Includes clay tablet envelopes. Approximate date: 1600 B.C.E. to 1774 C.E.

D. Bone, Ivory, Shell, and Other Organic Material

1. Statuettes and Figurines—This category consists of human, deity, animal, and other figures carved in the round in bone, ivory, or shell. Includes components, such as faces, of composite statues or statuettes in mixed materials. May be painted, gilded, or inlaid with stone, bitumen, colored pastes, or other materials. Figures may show Egyptian influence. Heights range from c. 5 to 30 cm. Approximate date: 5300 B.C.E. to 1774 C.E.

2. Jewelry and Ornaments—This category consists of small-scale adornments in bone, ivory, mother of pearl, and shell. Types include, but are not limited to: amulets, beads, bracelets, buckles, combs, pendants, pins, and roundels, as well as bridle and harness trappings such as crest holders, blinkers, and frontlets. May be decorated with incised or relief carved figures of humans, deities, or animals or geometric, floral, and vegetal motifs. In different periods, forms and styles may show Egyptian, Greek, Roman, Byzantine, or other regional influence. May be inscribed in various scripts and languages, such as Egyptian hieroglyphs, pseudo-hieroglyphs or the Byblos script, Phoenician, Greek, Latin, or Arabic. Approximate date: 40,000 years ago to 1774 C.E.

3. Vessels and Containers—This category consists of containers carved from bone, ivory, marine shell, and eggshell. May be painted, gilded, or incised or relief carved with various figures and motifs. Types in bone and ivory include, but are not limited to: pyxides (boxes) in cylindrical or trapezoidal form, duck-shaped vessels, and hollow tubes. Ostrich egg vessels may be plain, painted or engraved. Tridacna shell vessels may have figurative carving and painted or engraved designs. Approximate date: 5300 B.C.E. to 1774 C.E.

4. Plaques—This category consists of flat or curved pieces of bone, ivory, or shell (sometimes mother of pearl) used as decoration or inlay for architectural elements, furniture, or containers. May be plain, carved in relief or openwork, or engraved. May be painted, gilded, or inlaid with materials such as stone, glass, colored paste, or enamel. In the Bronze and Iron Ages, subject matter includes humans and deities, sometimes with typically Egyptian attributes; animals such as lions and ducks; mythological creatures such as sphinxes and griffins; vegetal and floral motifs such as the lotus, papyrus, volute tree, and other plants; geometric motifs; and Egyptian symbols such as the ankh, eye of Horus, or scarab. May be inscribed in various scripts and languages, such as Egyptian hieroglyphs or imitation hieroglyphs and Phoenician. Approximate date: 5300 B.C.E. to 1774 C.E.

5. Furniture—This category consists of elements of furniture such as tables, chairs, and beds carved from bone or ivory, such as legs, or backrests. May be shaped in the form of animals or parts of animals, such as lion's paws. Approximate date: 1200 B.C.E. to 1774 C.E.

6. Seals—This category consists of small devices, at least one side of which is engraved with a design for stamping or rolling, carved in bone or ivory. Types include, but are not limited to: stamp seals, cylinder seals, and scarabs. May be pierced for suspension. Some typical designs include geometric motifs and patterns, humans, deities, animals, mythological creatures, plants or trees, and symbols. Motifs and figures may be individual or combined into scenes such as veneration, combat, or procession. May be inscribed in various scripts and languages. Dimensions range from 1 to 10 cm. Approximate date: 5300 B.C.E. to 1774 C.E.

7. Tools, Implements, and Weapon Attachments—Bone, ivory, horn, and shell were also used to produce and decorate tools, weapons, and other implements. Types include, but are not limited to: astragali, awls, blades, buttons, dice, flutes, game pieces, gameboards, harpoons, hooks, needles, pins, spatulas, scale beams, spindle whorls, styli, and writing boards; handles of fans, flywhisks, and mirrors; and hilts, pommels, terminals, and inlays of metal weapons. May be plain, carved with figures in the round, or engraved or relief carved with geometric, floral, or vegetal motifs, or human, divine, or animal figures. Approximate date: 40,000 years ago to 1774 C.E.

E. Wood

1. Architectural Elements—This category consists of parts of buildings carved from various types of wood. Elements include, but are not limited to: walls, ceilings, floors, panels, altars, balconies, cabinets, columns, doors, lintels, iconostases, jambs, altars, vaults, windows, minbars, prayer niches (mihrab), muqarnas, pillars, screens, stairs, or pieces of any of these objects. May be engraved, painted, gilded, inlaid, or otherwise decorated. Approximate date: 10,000 B.C.E. to 1774 C.E.

2. Furniture—This category consists of wooden furniture such as chairs, stools, beds, tables, chests, desks, ladders, and lecterns, or elements thereof. May be engraved, painted, gilded, inlaid, or otherwise decorated. Approximate date: 1200 B.C.E. to 1774 C.E.

3. Tools, Implements, and Weapons—Types include, but are not limited to: kitchen and tableware vessels, writing and painting equipment, boxes, dice, game boxes and boards, buttons, combs, clasps, needles, spindles, staffs, beads, musical instruments, bows, arrow and spear shafts, and axe and adze handles. Approximate date: 8700 B.C.E. to 1774 C.E.

4. Ships and Other Vehicles—This category includes vehicles or parts of vehicles such as ships, boats, carts, chariots, and others. Approximate date: 8700 B.C.E. to 1774 C.E.

5. Panel Paintings (Icons)—This category consists of wooden panels painted with images and used as an aid to religious devotion. Painted images typically include single, frontally depicted, full-length, half-length, or enthroned figures of Christ, the Virgin Mary, or saints, and religious scenes with multiple figures shown frontally or in three-quarters view. Inscriptions and epigraphs are primarily in Greek, Syriac, or Arabic. Icons range in size from 20 cm to 2 or 3 m. Approximate date: 300 to 1774 C.E.

6. Burial Containers—This category includes various types of wooden burial containers such as coffins, caskets, sarcophagi, ossuaries, and reliquaries. May be plain, painted, gilded, engraved, or carved. Approximate date: 2000 B.C.E. to 1774 C.E.

F. Glass

1. Architectural Elements—Types include, but are not limited to: window glass, inlays, and tesserae from floor and wall mosaics. Approximate date: 700 B.C.E. to 1774 C.E.

2. Vessels—This category includes glass containers in forms such as bowls, cups, flasks, jugs (oinochoe), lamps, and various types of small perfume, oil, or cosmetic bottles for perfume or oil (alabastra, amphoriskoi, aryballoi, and unguentaria). Small, core-formed vessels of opaque, often multicolored glass were produced in the Bronze and Iron Age and Hellenistic Period. Blown or cast glass vessels date from the Hellenistic Period onward. Molds were used to create relief patterns, motifs, scenes, and inscriptions and shapes that imitate animals, fruits, or human heads. Vessels are found in a variety of colors such as amber, clear, blue, green, white, purple, and yellow. Approximate date: 1600 B.C.E. to 1774 C.E.

3. Jewelry and Ornaments—Types include, but are not limited to: beads in various shapes, bracelets, earrings, pendants, and rings. Some distinctive types of the Iron Age Phoenician period are polychrome face beads, head pendants, eye beads, and pendants shaped as birds, animals, or animal heads. Includes inlays for objects in other materials. Approximate date: 1600 B.C.E. to 1774 C.E.

4. Seals, Tokens, and Weights—This category consists of small devices in glass with a design engraved or cast in relief on at least one side. Types include, but are not limited to: seals, signets, scarabs, scaraboids, intaglios, gems, tokens, and weights. Approximate date: 400 B.C.E. to 1774 C.E.

G. Plaster and Stucco—Types in plaster and stucco include, but are not limited to vessels and containers, wall paintings, and architectural decoration.

1. Vessels and Containers—This category includes, but is not limited to: Neolithic period vessels and containers of lime plaster known as “white ware.” Approximate date: 10,000 to 5300 B.C.E.

2. Wall Paintings—This category consists of paintings or murals from buildings, rock-cut chapels, and tombs made on plaster in wet and dry fresco techniques. Typical designs include simple applied color; bands, borders, and geometric friezes; landscapes and scenes of people and/or animals in natural or built settings; and religious themes. Approximate date: 2000 B.C.E. to 1774 C.E.

3. Architectural Decorations—Plaster or stucco architectural decoration includes, but is not limited to: columns, friezes, medallions, ornaments, panels, pilasters, plaques, roundels, and other wall, ceiling, door, and window decorations. May be carved or molded in relief with floral, vegetal, geometric, or figurative motifs. May be painted or gilded. Approximate date: 332 B.C.E. to 1774 C.E.

H. Textile—This category consists of objects in woven materials such as linen, wool, cotton, silk, and basketry materials. Types include, but are not limited to: clothing, shoes, jewelry, and other items of personal adornment; prayer cloths; shrouds; tent coverings; domestic textiles; carpets; and hangings. May have patterns woven into the body of the textile. May be plain or decorated with embroidery, paint, or embellishments in other materials. Includes fragments. Approximate date: 3000 B.C.E. to 1774 C.E.

I. Leather, Parchment, Papyrus, and Paper

1. Leather—Types include, but are not limited to: bags, furniture parts, masks, shields, sheaths, cases and containers for a variety of uses, sandals, clothing, manuscripts, and manuscript covers. Approximate date: 3600 B.C.E. to 1774 C.E.

2. Parchment, Papyrus, and Paper—This category consists of organic writing media of different materials, whether found as scrolls, leaves, books, or fragments thereof. May be plain or bear writing or traces of writing in various scripts and languages such as Egyptian hieroglyphs, pseudo-hieroglyphs or the Byblos script, Phoenician, Greek, Latin, Syriac, Arabic and/or illustrations in ink or paint. Includes vellum. Approximate date: 2500 B.C.E. to 1774 C.E.

J. Human and Hominin Remains—This category includes skeletal and other bodily remains from humans or hominins preserved in burials or other archaeological contexts. May be fossilized. Includes mummified remains and associated clothing and textiles. Approximate date: 700,000 years ago to 1774 C.E.

II. Ethnological Material

Ethnological material covered by the import restrictions includes architectural elements; religious, ritual, and funerary objects; traditional garments and headdresses; weapons and armor; and manuscripts and handwritten documents, all dating from 1600 through 1918 C.E, as well as early printed books dating from 1600 through 1850 C.E.

A. Architectural Elements—This category consists of architectural elements and decoration in all materials from religious buildings such as mosques, madrasas, zawiyas, tekkes, churches, monasteries, convents, khalwats, synagogues, shrines (maqam), mausolea, and other architectural tomb facades or monuments; public buildings such as hammams (baths), khans (inns or caravanserai), souqs (markets), sarays (palaces), forts, and gates; and private Ottoman-period houses with protected status. Approximate date: 1600-1918 C.E.

1. Types of architectural elements in stone, plaster, stucco, and wood include, but are not limited to: blocks; arches, balustrades, bannisters, cabinets, ceilings, columns, capitals, bases, lintels, jambs, friezes, pilasters, and stairs; panels, doors, door frames, oculi, windows, window frames, tracery, and fittings; oil and wine presses; wellheads; and altars, prayer niches (mihrab), screens, iconostases, and fountains. May be plain, painted, or gilded. May be molded, carved in relief, engraved, or inlaid with decorative motifs, sculptures, and/or inscriptions. Includes sculptures, appliqués, and plaques that may have been part of a building. Includes mosaics and opus sectile inlay work on walls, ceilings, floors, and stairs, made from small pieces (tesserae) or tiles of stone or glass that are combined to create decorative patterns, motifs, and inscriptions.

2. Metal elements are primarily in copper, bronze, brass, other copper alloys, and lead, and may include doors, door fixtures, window frames, tracery, fittings, lathes, finials, chandeliers, screens, and sheets to protect domes.

3. Glass may be incorporated into either structural or decorative elements. Includes stained glass window elements and mosaic tesserae or inlay tiles.

4. Ceramic or terracotta elements include roof and decorative tiles, whether plain, painted, or glazed; carved, molded, and/or glazed brick; and appliqués and plaques.

5. Wall and ceiling paintings from buildings, rock-cut chapels, and tombs may be applied to plaster, wood, or stone. Motifs include simple applied color; bands, borders, and geometric, floral, or vegetal friezes; and religious figures and scenes, such as images of Christ, the Virgin Mary, saints, angels, and Biblical episodes.

B. Religious, Ritual, and Funerary Objects—This category includes objects for use in Christian, Muslim, or Druze religious services or rites, or for the equipment of a place of worship, as well as objects related to funerary rites and burials, in all materials. Approximate date: 1600-1918 C.E.

1. Religious Objects—This category includes objects in all materials such as lamps, libation vessels, pitchers, chalices, plates, patens, diskoi, censers, candelabra, crosses, cross pendants, crucifixes, croziers, monstrances or ostensories, pilgrim flasks, tabernacles, boxes and chests, ciboria, liturgical spoons, ampoules, prayer beads, icons, amulets, staffs, standards, stands, thabilithos or tablitos (wooden slabs), trays, and liturgical knives or spears. Often engraved or otherwise decorated.

2. Furniture—This category includes objects primarily in stone or wood, including altars, tables, doors, pedestals, platforms, pulpits, fonts, screens, iconostases, thrones, minbars, lecterns, desks, and other types of furniture used for religious purposes.

3. Textiles and Garments—Generally in linen, silk, and wool. This category consists of textiles (and fragments thereof) for use in religious contexts, including, but not limited to: tapestries, hangings, curtains, prayer rugs and carpets, shrine covers, altar cloths and linens; and garments, headdresses, and accessories worn for religious purposes, such as robes, liturgical vestments of every type, mitres, kaftans, turbans, hats, and talismanic shirts. Commonly decorated with embroidered designs including religious, floral, and geometric motifs.

4. Panel Paintings (Icons)—Icons are important in Maronite, Melkite, Greek, Syriac, and other Christian religious traditions of Lebanon. Icons are typically painted in tempera on wood in bright colors with gold ground or extensive use of gold and may be set in frames of various materials. They may also be painted or engraved on other materials such as metal or stone. Painted images include single, frontally depicted, full-length, half-length, or enthroned figures of Christ, the Virgin Mary, or saints, and religious scenes with multiple figures shown frontally or in three-quarters view. Images may be single or divided into multiple parts. Inscriptions and epigraphs are primarily in Greek, Syriac, or Arabic. Icons range in size from 20 cm to 2 or 3 m.

5. Musical Instruments—This category includes instruments used in religious ceremonies such as naqus, bells, tonewood, and cymbals.

6. Burial Containers—This category includes types such as sarcophagi, caskets, coffins, ossuaries, urns, and reliquaries, in stone (usually marble or limestone), metal, and wood. Includes cenotaphs (empty burial containers). May have associated sculpture in relief or in the round. May be plain or show figural, geometric, or floral motifs, or inscriptions in various languages and scripts, all of which can either be painted or carved in relief. Includes reliquary contents.

7. Tombstones, Memorial Stelae, Monuments, and Other Memorials—This category includes types such as markers, monuments, and memorials in stone, wood, or other materials that commemorate the dead and/or mark the location of a burial. Includes stelae, slabs, and monuments that may be plain, painted, carved in relief or in the round, or engraved with symbols and motifs and/or inscriptions primarily in Arabic, French, and Hebrew. These may also have associated sculpture in relief or in the round.

8. Burial Goods—This category includes objects in all materials that accompanied burials, such as shrouds; body adornment such as clothing, jewelry, and accessories; and other personal effects.

C. Traditional Garments and Headdresses—This category consists of Ottoman-period handmade garments and headdresses in silk, cotton, linen, velvet, wool, felt, brocade, leather, and other materials. Approximate date: 1600-1918 C.E.

1. Traditional Garments—Types of traditional handmade garments include, but are not limited to, pants, robes, jackets, vests, coats, shirts, aprons, and belts (sometimes with buckles or other components in metals). Types also include footwear such as kabkab (wooden clogs, sometimes painted or inlaid with mother of pearl), boots, and slippers. May be embroidered or embellished with braid.

2. Traditional Headdresses—Traditional headdresses include, but are not limited to, felt caps such as the labbadeh and tarboush (or fez); various types of veils and scarves; and the high cone-shaped tantour, usually made of metal (often silver), and sometimes engraved or gilded.

D. Weapons and Armor—This category consists of weapons and armor that were made or embellished by hand. Approximate date: 1600-1918 C.E.

1. Weapons—This category is primarily made in metals such as iron and steel, often in combination with other materials. Types include, but are not limited to, arrows and quivers; daggers, swords, axes, and other blades, with or without sheaths; spears, javelins, and lances. May be inlaid with gemstones, semi-precious stones, mother of pearl, or other materials; embellished with silver or gold; or engraved or chased with floral or geometric motifs. Grips or hilts may be made of metal, wood, ivory, bone, horn, or semi-precious stones, or may be bound with leather. Also includes firearms that were handmade or embellished by hand with inlays in various materials or engraved and chased metal components.

2. Armor—This category is primarily made in metals such as iron and steel and leather, but may include components in other materials. Types include, but are not limited to, helmets, body armor, shields, and horse armor. Body armor may consist of small metal scales, originally sewn to a backing of textile or leather.

E. Manuscripts, Handwritten Documents, and Early Printed Books—This category consists of texts in ink, paint, and gold on various media, including, but not limited to, parchment, vellum, paper, and leather. Includes scrolls, single leaves, books, and portions of books, as well as boxes for books or scrolls made of wood or other organic materials, and covers made of leather, textile, or metal, which may be inlaid with stones and other materials.

1. Manuscripts and Handwritten Documents—These are handwritten texts on parchment, vellum, paper, and leather, together with their bindings. Texts may be written in various scripts and languages, such as Arabic, Syriac, Latin, Greek, and Garshuni. Topics include, but are not limited to, religion (including scriptures, theology, liturgy, and other topics), sciences, history, literature, philosophy, and grammar. Manuscripts may have monochrome, bichrome, polychrome, and/or gold handmade decorations, illustrations, and/or illuminations. Approximate date: 1600-1918 C.E.

2. Early Printed Books—This category consists of books and portions of books of limited circulation made in the earliest presses in Lebanon, as well as associated type. Presses include those of St. Anthony of Qozhayya and the al-Zakher press of St. John the Baptist el-Choueir. Topics are primarily religious. Primarily printed in Arabic, Syriac, or Garshuni script in black and red ink. Approximate date: 1600-1850 C.E.

Bibliography

Centre culturel du Panthéon. 1996. Icones du Liban: 16 september 1996-20 october 1996. Paris: Paris-musées.

Doumet-Serhal, Claude, Anne-Marie Maïla-Afeiche, Farès el-Dahdah, and Anne Rabate, eds. 1998. Stones and Creed: 100 Artefacts from Lebanon's Antiquity. Beirut: Directorate General of Antiquities.

El Zaatari, Sireen. 2018. The Central Levantine Corridor: The Paleolithic of Lebanon. Quaternary International 466A: 33-47.

Immerzeel, M. 2009. Identity Puzzles: Medieval Christian Art in Syria and Lebanon. Orientalia Lovaniensia Analecta 184. Leuven: Peeters.

Institut du monde Arabe. 1998. Liban, l'autre rive. Exposition présentée à l'Institut du monde Arabe du 27 october 1998 au 2 mai 1999. Paris: Beaux Arts Magazine.

López-Ruiz, Carolina, and Brian R. Doak, eds. 2019. The Oxford Handbook of the Phoenician and Punic Mediterranean. New York: Oxford University Press.

Moscati, Sabatino, ed. 1999. The Phoenicians. New York: Rizzoli.

National Museum of Antiquities (The Netherlands) and Directorate General of Antiquities (Lebanon). 2024. Byblos: A Legacy Unearthed. Leiden: Sidestone Press.

Steiner, Margreet, and Ann E. Killebrew, eds. 2014. The Oxford Handbook of the Archaeology of the Levant: c. 8000-332 BCE. Oxford: Oxford University Press.

Inapplicability of Notice and Delayed Effective Date

This regulation involves a foreign affairs function of the United States and is, therefore, being made without notice or public procedure under 5 U.S.C. 553(a)(1). For the same reason, a delayed effective date is not required under 5 U.S.C. 553(d)(3).

Executive Order 12866

Executive Order 12866 (Regulatory Planning and Review) directs agencies to assess the costs and benefits of available regulatory alternatives and, if regulation is necessary, to select regulatory approaches that maximize net benefits (including potential economic, environmental, public health and safety effects, distributive impacts, and equity). CBP has determined that this document is not a regulation or rule subject to the provisions of Executive Order 12866 because it pertains to a foreign affairs function of the United States, as described above, and therefore is specifically exempted by section 3(d)(2) of Executive Order 12866.

Regulatory Flexibility Act

The Regulatory Flexibility Act (5 U.S.C. 601 et seq.), as amended by the Small Business Regulatory Enforcement Fairness Act of 1996, requires an agency to prepare and make available to the public a regulatory flexibility analysis that describes the effect of a proposed rule on small entities (i.e., small businesses, small organizations, and small governmental jurisdictions) when the agency is required to publish a general notice of proposed rulemaking for a rule. Since a general notice of proposed rulemaking is not necessary for this rule, CBP is not required to prepare a regulatory flexibility analysis for this rule.

Signing Authority

In accordance with Treasury Order 100-20, the Secretary of the Treasury delegated to the Secretary of Homeland Security the authority related to the customs revenue functions vested in the Secretary of the Treasury as set forth in 6 U.S.C. 212 and 215, subject to certain exceptions. This regulation is being issued in accordance with DHS Directive 07010.3, Revision 03.2, which delegates to the Commissioner of CBP the authority to prescribe and approve regulations related to cultural property import restrictions.

Pete Flores, Acting Commissioner, having reviewed and approved this document, has delegated the authority to electronically sign this document to the Director (or Acting Director, if applicable) of the Regulations and Disclosure Law Division of CBP, for purposes of publication in the Federal Register.

List of Subjects in 19 CFR Part 12

Cultural property, Customs duties and inspection, Imports, Prohibited merchandise, Reporting and recordkeeping requirements.

Amendments to the CBP Regulations

For the reasons set forth above, part 12 of title 19 of the Code of Federal Regulations (19 CFR part 12) is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, the table in paragraph (b) is amended by adding Lebanon to the list in alphabetical order to read as follows:

§ 12.104g Specific items or categories designated by agreements or emergency actions.

* * * * *

(b) * * *

State party | Cultural property | Decision No.
* * * * * * *
Lebanon | Archaeological material of Lebanon ranging in date from approximately the Paleolithic period (approximately 700,000 years ago) through 1774 C.E., and ethnological material of Lebanon ranging in date from approximately 1600 C.E. to 1918 C.E | CBP Dec. 25-05.
* * * * * * *

Robert F. Altneu,
Director, Regulations & Disclosure Law Division, Regulations & Rulings, Office of Trade U.S. Customs and Border Protection.

[FR Doc. 2025-08615 Filed 5-13-25; 8:45 am]

BILLING CODE 9111-14-P